DEPARTMENT OF LABOR

Employment and Training Administration

[TA-W-60,460]

Roseburg Forest Products, Coquille, OR; Notice of Termination of Investigation

Pursuant to Section 221 of the Trade Act of 1974, as amended, an investigation was initiated on November 20, 2006 in response to a petition filed jointly by the Carpenters and Joiners of America Local 2784 and a company official on behalf of workers of Roseburg Forest Products, Coquille, Oregon.

The petitioners have requested that the petition be withdrawn. Consequently, the investigation has been terminated.

December 5, 2006.
Linda G. Poole,
Certifying Officer, Division of Trade Adjustment Assistance.

[FR Doc. E6-21258 Filed 12-13-06; 8:45 am]

BILLING CODE 4510-30-P